SUSQUEHANNA RIVER BASIN COMMISSION

Grandfathering Registration Notice

AGENCY: Susquehanna River Basin Commission.

ACTION: Notice.

SUMMARY: This notice lists Grandfathering (GF) Registration for projects by the Susquehanna River Basin Commission during the period set forth in DATES.

DATES: March 1-31, 2020.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists GF Registration for projects, described below, pursuant to 18 CFR 806, Subpart E for the time period specified above:

Grandfathering Registration Under 18 CFR Part 806, Subpart E

1. Susquehanna Valley Country Club, GF Certificate No. GF-202003090, Monroe Township, Snyder County, Pa.; On-site Well; Issue Date: March 13, 2020.

2. BCI Municipal Authority—Public Water Supply System, GF Certificate No. GF-202003091, Gulich Township, Clearfield County, Pa.; Big Spring (Spring 1), Little Spring (Spring 2), Well 1, and Test Well 2; Issue Date: March 24, 2020.

3. Pennsylvania Fish & Boat Commission—Upper Spring Creek Hatchery, GF Certificate No. GF-202003092, Benner Township, Centre County, Pa.; Spring Creek; Issue Date: March 24, 2020.

Dated: May 14, 2020.
Jason E. Oyler,
General Counsel and Secretary to the Commission.

[FR Doc. 2020-10756 Filed 5-18-20; 8:45 am]

BILLING CODE 7040-01-P